DEPARTMENT OF THE INTERIOR

Bureau of Land Management

[LLNVB01000 L51100000.GN0000.LVEMF12CF010 241A; NVN-082096; NVN-084632; NVN-091272; 12-08807; MO# 4500039779; TAS: 14X5017]

Notice of Availability of the Final Environmental Impact Statement for the Mount Hope Project, Eureka County, NE

AGENCY: Bureau of Land Management, Interior.

ACTION: Notice of availability.

SUMMARY: In accordance with the National Environmental Policy Act of 1969 and the Federal Land Policy and Management Act of 1976, as amended, the Bureau of Land Management (BLM) Mount Lewis Field Office, Battle Mountain, Nevada has prepared a Final Environmental Impact Statement (EIS) for the Mount Hope Project and by this notice is announcing its availability.

DATES: The BLM will not issue a final decision on the proposal for a minimum of 30 days from the date that the Environmental Protection Agency publishes its notice in the Federal Register.

ADDRESSES: Copies of the Mount Hope Project Final EIS are available at the Battle Mountain District Office, 50 Bastian Road, Battle Mountain, Nevada, during regular business hours of 7:30 a.m. to 4:30 p.m., Monday through Friday, except holidays. Interested persons may also review the Final EIS on the Internet at: www.blm.gov/nvst/en/fo/battle_mountain_field.html.

FOR FURTHER INFORMATION CONTACT: For further information contact Gloria Tibbetts, Planning and Environmental Coordinator, telephone: 775-635-4060; address: 50 Bastian Road, Battle Mountain, Nevada 89820; email: gtibbetts@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Eureka Moly, LLC (EML) has submitted a Plan of Operations (NVN-082096) to the BLM Mount Lewis Field Office for the proposed Mount Hope Molybdenum Mining Project. The proposed project would be located in central Nevada approximately 23 miles northwest of Eureka, Nevada. The project is a proposed molybdenum mine and includes a power transmission line, a water well field, and all associated mine-processing facilities. The project is to be located on both public and private lands in Eureka County, Nevada, and is expected to have a mine life of 80 years. The surface disturbance associated with the proposed activities totals 8,092 acres of public land and 263 acres of private land located within the 22,886-acre project area. The project proposal is to extract molybdenite from public lands where EML holds mining claims and private land to the optimal extent possible. After extraction, EML would reclaim the project area in a manner that is environmentally responsible and in compliance with Federal mining laws, the Federal Land Policy and Management Act (FLPMA), Nevada Mine Reclamation Law, and other applicable laws and regulations. The BLM, in accordance with the FLPMA, is to respond to the applicant's Plan of Operations to conduct mining under the General Mining Law.

The Final EIS describes and analyzes the project's site-specific impacts (including cumulative) on all affected resources. Four action alternatives including: (1) The Proposed Action, (2) Partial Backfill Alternative, (3) Off-Site Transfer of Ore Concentrate for Processing Alternative, and (4) Slower, Longer Project Alternative, were analyzed in addition to the No Action Alternative.

The Proposed Action would consist of an open pit mine with associated pit dewatering, a 230-kilovolt transmission line, a water well field, and ancillary mining facilities, including a molybdenite concentrate roaster and packaging plant and a ferromolybdenum plant for production of ferromolybdenum alloy. The project would have an 18- to 24-month construction phase, 44 years of mining and ore processing, 30 years of reclamation, and 5 years of monitoring. Approximately 400 potential jobs would be provided in the area for this timeframe with a peak employment of 615 personnel during construction activities. The project is consistent with the Shoshone-Eureka Resource Area Management Plan and does not impact any areas with special designations.

The Partial Backfill Alternative would be essentially similar to the Proposed Action except that the open pit would be partially backfilled at the end of mining to eliminate the potential for a pit lake to form.

The Off-Site Transfer of Ore Concentrate for Processing Alternative would also be similar to the Proposed Action except that the ore processing facilities would include only milling operations and production of the molybdenum sulfide concentrate.

The Slower, Longer Project Alternative would have the same components as the Proposed Action, but operations would be conducted at approximately one-half the production rate of the Proposed Action, which would result in a project that would last approximately twice as long. The BLM analyzed this alternative in detail based on a request from Eureka County, a Cooperating Agency on the EIS.

Mitigation measures have been identified for multiple resources under each alternative to minimize potential environmental impacts and to assure that the proposed project would not result in undue or unnecessary degradation of public lands. Eight additional alternatives were considered and rationale for their elimination from detailed analysis is discussed. These alternatives include (1) Complete Backfilling Alternative, (2) Different Waste Rock Disposal Facility Heights Alternative, (3) Increased Ore Processing to Match the Mining Schedule Alternative, (4) Decreased Mining to Match the Ore Processing Schedule Alternative, (5) Reduced Project Alternative, (6) Different Facility Locations within the Project Area Alternative, (7) Different Powerline Alternative, and (8) Different Potentially Acid Generating Waste Rock Management Alternative. Based on the analysis in the Final EIS, the BLM has determined that the Preferred Alternative is the Proposed Action, with accompanying mitigation measures.

On March 2, 2007, a Notice of Intent to Prepare an EIS was published in the Federal Register (72 FR 9579) inviting scoping comments on the proposed action. Public scoping meetings for the project were held on March 27 and 28, 2007 in Eureka and Battle Mountain, Nevada. Six written comments were received via mail and/or email during the scoping period and three additional letters were received after the closure of the formal scoping period. All comments that were received have been incorporated in a Scoping Summary Report and were considered in the preparation of this Final EIS. On December 2, 2011 a Notice of Availability of the Draft EIS was published in the Federal Register (76 FR 75554) on the Draft EIS to the public for a 90-day comment period. Two public comment meetings were held on January 18 and 19, 2012 in Eureka and Crescent Valley, Nevada.

More than 1,900 comments were received from 941 separate parties. Comments primarily pertained to potential impacts from the groundwater drawdown, socioeconomic impacts to the local communities, and impacts to wildlife and other natural resources. All of these comments were considered and are addressed in Appendix H of the Final EIS. Some additional analysis and clarifying text was included in the Final EIS as a result of the comments.

Authority: 40 CFR 1506.6, 40 CFR 1506.10.

Christopher J. Cook,
Mount Lewis Field Manager.

[FR Doc. 2012-25182 Filed 10-11-12; 8:45 am]

BILLING CODE 4310-HC-P